DEPARTMENT OF EDUCATION

Office of Postsecondary Education; Overview Information; Jacob K. Javits Fellowship Program; Notice Inviting Applications for New Awards for Fiscal Year (FY) 2011

Catalog of Federal Domestic Assistance (CFDA) Number: 84.170A.

Dates Applications Available: August 13, 2010.

Deadline for Transmittal of Applications: September 30, 2010.

Deadline for Transmittal of the Free Application for Federal Student Aid (FAFSA): January 31, 2011.

Full Text of Announcement

I. Funding Opportunity Description

Purpose of Program: The purpose of the Jacob K. Javits (JKJ) Fellowship Program is to award fellowships to eligible students of superior ability, selected on the basis of demonstrated achievement, financial need, and exceptional promise, to undertake graduate study in specific fields in the arts, humanities, and social sciences leading to a doctoral degree or to a master's degree in those fields in which the master's degree is the terminal highest degree awarded to the selected field of study at accredited institutions of higher education. The selected fields in the arts are: Creative writing, music performance, music theory, music composition, music literature, studio arts (including photography), television, film, cinematography, theater arts, playwriting, screenwriting, acting, and dance. The selected fields in the humanities are: Art history (including architectural history), archeology, area studies, classics, comparative literature, English language and literature, folklore, folk life, foreign languages and literature, history, linguistics, philosophy, religion (excluding study of religious vocation), speech, rhetoric, and debate. The selected fields in the social sciences are: Anthropology, communications and media, economics, ethnic and cultural studies, geography, political science, psychology (excluding clinical psychology), public policy and public administration, and sociology (excluding the master's and doctoral degrees in social work).

Program Authority: 20 U.S.C. 1134-1134d.

Applicable Regulations: (a) The Education Department General Administrative Regulations (EDGAR) in 34 CFR parts 74, 75 (except as provided in 34 CFR 650.3(b)), 77, 82, 84, 85, 86, 97, 98 and 99. (b) The regulations for this program in 34 CFR part 650.

II. Award Information

Type of Award: Discretionary grant.

Estimated Available Funds: $1,451,637 for new awards.

Estimated Average Size of Awards: $43,989.

Estimated Number of Awards: 33.

Note: The Department is not bound by any estimates in this notice.

Project Period: Up to 48 months.

III. Eligibility Information

1. Eligible Applicants: Individuals who, at the time of application: Are eligible to receive a Federal grant, loan or work assistance pursuant to section 484 of the Higher Education Act of 1965, as amended (HEA); intend to pursue a doctoral or Master of Fine Arts degree in an eligible field of study selected by the Board at an accredited U.S. institution of higher education; and are a U.S. citizen or national, a permanent resident of the United States, in the United States for other than a temporary purpose and intending to become a permanent resident, or a citizen of any one of the Freely Associated States. Applicants must also either: Be entering into a doctoral program in academic year 2011-2012, or have not yet completed the first full year in the doctoral program, in an eligible field of study for which they are seeking support; or be entering a Master of Fine Arts program in academic year 2011-2012, or have not yet completed the first full year in the Master of Fine Arts program, in an eligible field of study for which they are seeking support.

2. Cost Sharing or Matching: This program does not require cost sharing or matching.

IV. Application and Submission Information

1. Address to Request Application Package: You can obtain an application package via the Internet or from the Department. To obtain a copy via the Internet, use the following address for the JKJ Fellowship Program Web site: http://www.ed.gov/programs/jacobjavits/index.html. To obtain a copy from the Department, write, fax, or call the following: Carmen Gordon or Sara Starke, Jacob K. Javits Fellowship Program, U.S. Department of Education, Teacher and Student Development Programs Service, 1990 K St., NW., room 6013, Washington, DC 20006-8524. Telephone: (202) 502-7542 or by e-mail: ope_javits_program@ed.gov.

If you use a telecommunications device for the deaf (TDD), call the Federal Relay Service (FRS), toll free, at 1-800-877-8339.

Individuals with disabilities can obtain a copy of the application package in an accessible format (e.g., braille, large print, audiotape, or computer diskette) by contacting the person listed under For Further Information Contact in section VII of this notice.

Note: The FAFSA can be obtained from the institution of higher education's financial aid office or accessed at: http://www.fafsa.ed.gov.

2. Content and Form of Application Submission: Requirements concerning the content of an application, together with the forms you must submit, are in the application package for this program.

3. Submission Dates and Times:

Applications Available: August 13, 2010.

Deadline for Transmittal of Applications: September 30, 2010.

Deadline for Transmittal of the FAFSA: January 31, 2011.

Applications for grants under this program must be submitted in paper format by mail or hand delivery. For information (including dates and times) about how to submit your application by mail or hand delivery, please refer to section IV. 7. Other Submission Requirements of this notice.

We do not consider an application that does not comply with the deadline requirements.

Individuals with disabilities who need an accommodation or auxiliary aid in connection with the application process should contact the person listed under For Further Information Contact in section VII in this notice. If the Department provides an accommodation or auxiliary aid to an individual with a disability in connection with the application process, the individual's application remains subject to all other requirements and limitations of this notice.

4. Intergovernmental Review: This program is not subject to Executive Order 12372 and the regulations in 34 CFR part 79.

5. Funding Restrictions: We reference regulations outlining funding restrictions in the Applicable Regulations section of this notice.

6. Data Universal Numbering System Number, Taxpayer Identification Number, and Central Contractor Registry: To do business with the Department of Education, (1) you must have a Data Universal Numbering System (DUNS) number and a Taxpayer Identification Number (TIN); (2) you must register both of those numbers with the Central Contractor Registry (CCR), the Government's primary registrant database; and (3) you must provide those same numbers on your application.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

7. Other Submission Requirements: Applications for grants under this program must be submitted in paper format by mail or hand delivery.

a. Submission of Applications by Mail.

If you submit your application by mail (through the U.S. Postal Service or a commercial carrier), you must mail the original and two copies of your application, on or before the application deadline date, to the Department at the following address: U.S. Department of Education, Application Control Center, Attention: (CFDA Number 84.170A) LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note 1: The U.S. Postal Service does not uniformly provide a dated postmark. Before relying on this method, you should check with your local post office.

Note 2: Materials mailed through the U.S. Postal Service may be subject to damage due to irradiation processes. Therefore, Arts applicants are required to send their applications by commercial carrier.

b. Submission of Applications by Hand Delivery.

If you submit your application by hand delivery, you (or a courier service) must deliver the original and two copies of your application by hand, on or before the application deadline date, to the Department at the following address: U.S. Department of Education, Application Control Center, Attention: (CFDA Number 84.170A) 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA Number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are established by the JKJ Program Fellowship Board, pursuant to section 702(a)(2) of the HEA and 34 CFR 650.20(a). The selection criteria for applications in the humanities and social sciences are: (a) Statement of purpose (150 points); (b) Letters of recommendation (100 points); (c) Academic record (100 points); and (d) Scholarly awards/honors (50 points). The selection criteria for applications in the arts are: (a) Statement of purpose (100 points); (b) Letters of recommendation (100 points); (c) Academic record (50 points); (d) Scholarly awards/honors (50 points); and (e) Supporting arts materials (100 points).

2. Review and Selection Process: The review and selection process for the JKJ Fellowship Program consists of a two-part process. Eligible applications are read and rated by a panel of distinguished scholars and academics in the arts, humanities, and social sciences on the basis of demonstrated scholarly achievements and exceptional promise. The second part of the evaluation is a determination of financial need.

VI. Award Administration Information

1. Award Notices: If your application is successful, we will notify you by telephone and we will send a Grant Award Notice (GAN) directly to the institution you will be attending.

If your application is not evaluated or not selected for funding, we notify you.

2. Administrative and National Policy Requirements: We identify administrative and national policy requirements in the application package and reference these and other requirements in the Applicable Regulations section in this notice.

We reference the regulations outlining the terms and conditions of an award in the Applicable Regulations section of this notice and include these and other specific conditions in the GAN. The GAN also incorporates your approved application as part of your binding commitments under the grant.

3. Reporting: On an annual basis, fellows must submit their FAFSA to the Javits Program Coordinator at their institutions, as directed by the Secretary, pursuant to 34 CFR 650.37. In addition, Javits fellows are required to submit an annual performance report. The Department will contact fellows regarding the completion of the annual performance report.

4. Performance Measures: The effectiveness of the JKJ Fellowship Program will be measured by graduate completion rates, time-to-degree completion rates, and the costs per PhD or master's degree of talented graduate students with demonstrated financial need who are pursuing the highest degree available in their designated fields of study. Institutions of higher education in which the fellows are enrolled are required to submit an annual report documenting the fellows' satisfactory academic progress and the determined financial need. Javits fellows are also required to submit an annual performance report to assist program staff in tracking time-to-degree completion rates, graduation rates, as well as the employment status of individual fellows. The Department will use the reports to assess the program's success in assisting fellows in completing their course of study and receiving their degree.

VII. Agency Contacts

For Further Information Contact: Carmen Gordon or Sara Starke, Jacob K. Javits Fellowship Program, U.S. Department of Education, Teacher and Student Development Programs Service, 1990 K St., NW., room 6013, Washington, DC 20006-8524. Telephone: (202) 502-7542 or e-mail: ope_javits_program@ed.gov.

If you use a TDD, call the FRS, toll free, at 1-800-877-8339.

VIII. Other Information

Accessible Format: Individuals with disabilities can obtain this document and a copy of the application package in an accessible format (e.g., braille, large print, audiotape, or computer diskette) on request to the program contact person listed under For Further Information Contact in section VII of this notice.

Electronic Access to This Document: You can view this document, as well as all other documents of this Department published in the Federal Register, in text or Adobe Portable Document Format (PDF), on the Internet at the following site: http://www.ed.gov/news/fedregister. To use PDF, you must have Adobe Acrobat Reader, which is available free at this site.

Note: The official version of this document is the document published in the Federal Register. Free Internet access to the official edition of the Federal Register and the Code of Federal Regulations is available on GPO Access at: http://www.gpoaccess.gov/nara/index.html.

Dated: August 10, 2010.
Eduardo M. Ochoa,
Assistant Secretary for Postsecondary Education.

[FR Doc. 2010-20062 Filed 8-12-10; 8:45 am]

BILLING CODE 4000-01-P